NUCLEAR REGULATORY COMMISSION

[Docket No. 72-10-ISFSI; ASLBP No. 12-922-01-ISFSI-MLR-BD01]

Northern States Power Company; Establishment of Atomic Safety and Licensing Board

Pursuant to delegation by the Commission, see 37 FR 28,710 (Dec. 29,1972), and the Commission's regulations, see 10 CFR 2.105, 2.300, 2.313, 2.318, and 2.321, notice is hereby given that an Atomic Safety and Licensing Board (Board) is being established to preside over the following proceeding:

Northern States Power Company

(Prairie Island Nuclear Generating Plant, Independent Spent Fuel Storage Installation)

This proceeding involves an application by Northern States Power Company (NSPC) dated October 20, 2011, as supplemented February 29, 2012, for the renewal of its Special Nuclear Material License for forty years at the Prairie Island Nuclear Generating Plant Independent Spent Fuel Storage Installation located in Red Wing, Minnesota. In response to a Notice of Opportunity for Hearing published on June 25, 2012 (77 FR 37,937), the Prairie Island Indian Community (PIIC) filed a request for hearing on August 24, 2012.

On September 13, 2012, NSPC and the NRC Staff filed motions to extend filing deadlines. See Joint Motion to Extend Time for Responses and Reply to Responses to [PIIC's] Petition to Intervene (Sept. 13, 2012); NRC Staff Unopposed Motion for Extension of Time to Respond to [PIIC's] Petition to Intervene (Sept. 13, 2012). On the same day, the Secretary of the Commission referred PIIC's hearing request and supporting documents to me for appropriate action in accordance with 10 CFR 2.346(i). See Memorandum from Annette L. Vietti-Cook, Secretary of the Commission to E. Roy Hawkens, Chief Administrative Judge, Atomic Safety and Licensing Board Panel (Sept. 13, 2012).

The Board is comprised of the following administrative judges:

Michael M. Gibson, Chair, Atomic Safety and Licensing Board Panel, U.S. Nuclear Regulatory Commission, Washington, DC 20555-0001.

Dr. Gary S. Arnold, Atomic Safety and Licensing Board Panel, U.S. Nuclear Regulatory Commission, Washington, DC 20555-0001.

Dr. Robert B. Matthews, Atomic Safety and Licensing Board Panel, U.S. Nuclear Regulatory Commission, Washington, DC 20555-0001.

All correspondence, documents, and other materials shall be filed in accordance with the NRC E-filing rule, which the NRC promulgated in August 2007 (72 FR 49,139).

Issued at Rockville, Maryland, this 17th day of September 2012.
E. Roy Hawkens,
Chief Administrative Judge, Atomic Safety and Licensing Board Panel.

[FR Doc. 2012-23363 Filed 9-20-12; 8:45 am]

BILLING CODE 7590-01-P